ENVIRONMENTAL PROTECTION AGENCY

[FRL-7052-9]

EPA Science Advisory Board; Notification of Public Advisory Committee Teleconference Meeting

Summary—Pursuant to the Federal Advisory Committee Act, Public Law 92-463, notice is hereby given that the Clean Air Scientific Advisory Committee (CASAC) Subcommittee on Particle Monitoring will meet in a public teleconference on Monday, October 1, 2001 from 11 am to 2 pm Eastern Time. The meeting will be hosted out of Conference Room 6013, US EPA, Ariel Rios Federal Building, 1200 Pennsylvania Avenue, NW, Washington, DC 20004. The meeting is open to the public, however, due to limited space, seating will be on a registration-only basis. Consequently, the public is encouraged to connect via phone to the teleconference. For further information concerning the meeting, or how to register and obtain the phone number, please contact the individuals listed below.

Background—The CASAC Subcommittee on Particle Monitoring (formerly the CASAC Technical Subcommittee for Fine Particle Monitoring) was established in 1996 to provide advice and comment to EPA (through CASAC) on appropriate methods and network strategies for monitoring fine particles in the context of implementing the revised national ambient air quality standards (NAAQS) for particulate matter. The Subcommittee's last meeting/workshop was held on January 22, 2001 (see 66 FR 1343, January 8, 2001 for additional details).

Purpose of the Meeting—This Consultation meeting will be used to comment on EPA's proposed methodology for measuring coarse particulate matter and to discuss alternative approaches to accommodate existing and emerging technologies. The Subcommittee is asked to suggest alternative approaches to EPA's proposed methodology for measuring coarse particulate matter. In the discussion of such approaches, the subcommittee should consider the use of performance based equivalency standards and implementation mechanisms that encourage the use of continuous methods while retaining adequate quality control of data. In addition to continuous methods, the subcommittee is asked to consider the feasibility of incorporating existing integrated methods such as the high volume PM10 sampler and dichotomous samplers into a future PM coarse network. The Subcommittee also is asked to comment on basic network considerations such as the number and location of future PM coarse sites and the frequency for chemical speciation analysis.

Availability of Review Materials—Dr. Russell Wiener can be contacted for information regarding EPA's proposed coarse reference method (919-541-1910).

For Further Information—Members of the public wishing to register for the teleconference or gain access to the conference room on the day of the meeting must contact Ms. Rhonda Fortson, Management Assistant, Clean Air Scientific Advisory Committee, EPA Science Advisory Board (1400A), Suite 6450, U.S. EPA, 1200 Pennsylvania Avenue, NW, Washington, DC 20460; telephone/voice mail at (202) 564-4563; fax at (202) 501-0582; or via e-mail at fortson.rhonda@epa.gov. Those desiring additional information about the meeting, should contact Mr. Robert Flaak, Designated Federal Officer, Clean Air Scientific Advisory Committee, EPA Science Advisory Board (1400A), Suite 6450, U.S. EPA, 1200 Pennsylvania Avenue, NW, Washington, DC 20460; telephone/voice mail at (202) 564-4546; fax at (202) 501-0582; or via e-mail at flaak.robert@epa.gov. A copy of the draft agenda will be posted on the SAB Web site (www.epa.gov/sab) (under the AGENDAS subheading) approximately 12 days before the meeting. The Agenda may also be obtained from Ms. Fortson at the same time.

Members of the public who wish to make a brief oral presentation must contact Mr. Flaak in writing (by letter or by fax—see previously stated information) no later than 12 noon Eastern Time, Monday, September 24, 2001 in order to be included on the Agenda. Public comments will be limited to approximately three to five minutes per speaker or organization, with a total time of fifteen minutes overall for all speakers. Written comments must be received no later than the day prior to the meeting, preferably in electronic format (see below for details).

Providing Oral or Written Comments at SAB Meetings

It is the policy of the EPA Science Advisory Board to accept written public comments of any length, and to accommodate oral public comments whenever possible. The EPA Science Advisory Board expects that public statements presented at its meetings will not be repetitive of previously submitted oral or written statements. Oral Comments: In general, each individual or group requesting an oral presentation at a face-to-face meeting will be limited to a total time of ten minutes. For conference call meetings, opportunities for oral comment will usually be limited to no more than three minutes per speaker and no more than fifteen minutes total, unless otherwise stated. Deadlines for getting on the public speaker list for a meeting are given above. Speakers should bring at least 35 copies of their comments and presentation slides for distribution to the reviewers and public at the meeting. Written Comments: Although the SAB accepts written comments until two days following the date of the meeting (unless otherwise stated above), written comments should be received in the SAB Staff Office at least one week prior to the meeting date so that the comments may be made available to the committee for their consideration. Comments should be supplied to the appropriate DFO at the address/contact information noted above in the following formats: One hard copy with original signature, and one electronic copy via e-mail (acceptable file formats: WordPerfect, Word, or Rich Text files (in IBM-PC/Windows 95/98 format). Those providing written comments and who attend the meeting are also asked to bring 25 copies of their comments for public distribution.

General Information—Additional information concerning the EPA Science Advisory Board, its structure, function, and composition, may be found on our Website (http://www.epa.gov/sab) and in The FY2000 Annual Report of the Staff Director which is available from the SAB Publications Staff at (202) 564-4533 or via fax at (202) 501-0256. Committee rosters, draft Agendas and meeting calendars are also located on our website.

Meeting Access—Individuals requiring special accommodation at this meeting, including wheelchair access to the conference room, should contact Mr. Flaak or Ms. Fortson at least five business days prior to the meeting so that appropriate arrangements can be made.

Dated: September 4, 2001.
Donald G. Barnes,
Staff Director, EPA Science Advisory Board.

[FR Doc. 01-22622 Filed 9-7-01; 8:45 am]

BILLING CODE 6560-50-U